DEPARTMENT OF ENERGY

10 CFR Part 431

[Docket No. EERE-2012-BT-STD-0029]

RIN 1904-AC82

Energy Efficiency Program for Commercial and Industrial Equipment: Public Meeting and Availability of the Framework Document for Packaged Terminal Air Conditioners and Packaged Terminal Heat Pumps

AGENCY: Office of Energy Efficiency and Renewable Energy, Department of Energy.

ACTION: Notice of public meeting and availability of the framework document.

SUMMARY: The U.S. Department of Energy (DOE) is initiating a rulemaking and data collection process to consider amending energy conservation standards for packaged terminal air conditioners (PTACs) and packaged terminal heat pumps (PTHPs). DOE will hold a public meeting to discuss and receive comments on its planned analytical approach and issues it will address in this rulemaking proceeding. DOE welcomes written comments and relevant data from the public on any subject within the scope of this rulemaking. To inform interested parties and to facilitate this process, DOE has prepared a framework document that details the analytical approach and identifies several issues on which DOE is particularly interested in receiving comments.

DATES: Meeting: DOE will hold a public meeting on Tuesday, March 12, 2013, from 9:00 a.m. to 5:00 p.m. in Washington, DC. Additionally, DOE plans to conduct the public meeting via webinar. You may attend the public meeting via webinar, and registration information, participant instructions, and information about the capabilities available to webinar participants will be published on DOE's Web site at: http://www1.eere.energy.gov/buildings/appliance_standards/product.aspx/productid/45. Participants are responsible for ensuring their systems are compatible with the webinar software.

DOE must receive requests to speak at the public meeting before 4:00 p.m., Tuesday, February 26, 2013. DOE must receive an electronic copy of the statement with the name and, if appropriate, the organization of the presenter to be given at the public meeting before 4:00 p.m., Tuesday, March 5, 2013.

Comments: DOE will accept written comments, data, and information regarding the framework document before and after the public meeting, but no later than March 25, 2013.

ADDRESSES: The public meeting will be held at the U.S. Department of Energy, Forrestal Building, Room 8E-089, 1000 Independence Avenue SW., Washington, DC 20585-0121. Please note that foreign nationals planning to participate in the public meeting are subject to advance security screening procedures. If a foreign national wishes to participate in the public meeting, please inform DOE of this fact as soon as possible by contacting Ms. Brenda Edwards at (202) 586-2945 so that the necessary procedures can be completed. Please note that any person wishing to bring a laptop computer into the Forrestal Building will be required to obtain a property pass. Visitors should avoid bringing laptops, or allow an extra 45 minutes. As noted above, persons may also attend the public meeting via webinar.

Interested parties are encouraged to submit comments electronically. However, comments may be submitted by any of the following methods:

• Federal eRulemaking Portal: www.regulations.gov. Follow the instructions for submitting comments.

• Email to the following address: PkgTerminalAC-HP2012STD0029@ee.doe.gov. Include docket number EERE-2012-BT-STD-0029 and/or RIN 1904-AC82 in the subject line of the message. All comments should clearly identify the name, address, and, if appropriate, organization of the commenter.

• Postal Mail: Ms. Brenda Edwards, U.S. Department of Energy, Building Technologies Program, Mailstop EE-2J, Framework Document for PTACs and PTHPs, Docket No. EERE-2012-BT-STD-0029 and/or RIN 1904-AC82, 1000 Independence Avenue SW., Washington, DC 20585-0121. Please submit one signed paper original.

• Hand Delivery/Courier: Ms. Brenda Edwards, U.S. Department of Energy, Building Technologies Program, Sixth Floor, 950 L'Enfant Plaza SW., Washington, DC 20024. Please submit one signed paper original.

Instructions: All submissions received must include the agency name and docket number and/or RIN for this rulemaking. No telefacsimilies (faxes) will be accepted.

Docket: The docket is available for review at www.regulations.gov, including Federal Register notices, public meeting attendees' lists and transcripts, comments, and other supporting documents/materials. All documents in the docket are listed in the www.regulations.gov index. However, not all documents listed in the index may be publicly available, such as information that is exempt from public disclosure.

A link to the docket Web page can be found at: http://www.regulations.gov/#!docketDetail;dct=FR%252BPR%252BN%252BO%252BSR%252BPS;rpp=25;po=0;D=EERE-2012-BT-STD-0029. This Web page contains a link to the docket for this notice on the www.regulations.gov Web site. The www.regulations.gov Web page contains simple instructions on how to access all documents, including public comments, in the docket.

For information on how to submit a comment, review other public comments and the docket, or participate in the public meeting, contact Ms. Brenda Edwards at (202) 586-2945 or by email: Brenda.Edwards@ee.doe.gov.

FOR FURTHER INFORMATION CONTACT: Mr. Ronald Majette, U.S. Department of Energy, Office of Energy Efficiency and Renewable Energy, Building Technologies, EE-2J, 1000 Independence Avenue SW., Washington, DC 20585-0121. Telephone: (202) 586-7935. Email: PTACs@ee.doe.gov.

Ms. Jennifer Tiedeman, U.S. Department of Energy, Office of the General Counsel, GC-71, 1000 Independence Avenue SW., Washington, DC 20585-0121. Telephone: (202) 287-6111. Email: Jennifer.Tiedeman@hq.doe.gov.

For information on how to submit or review public comments and on how to participate in the public meeting, contact Ms. Brenda Edwards, U.S. Department of Energy, Office of Energy Efficiency and Renewable Energy, Building Technologies Program, EE-2J, 1000 Independence Avenue SW., Washington, DC, 20585-0121. Telephone (202) 586-2945. Email: Brenda.Edwards@ee.doe.gov.

SUPPLEMENTARY INFORMATION: Title III, Part C of the Energy Policy and Conservation Act of 1975 (EPCA), Public Law 94-163 (42 U.S.C. 6311-6317, as codified), added by Public Law 95-619, Title IV, section 441(a), established the Energy Conservation Program for Certain Industrial Equipment, which includes the PTACs and PTHPs that are the focus of this notice.¹

¹ For editorial reasons, upon codification in the U.S. Code, Part C was re-designated Part A-1.

The Energy Policy Act of 1992 (EPACT 1992), Public Law 101-486, amended section 342 of EPCA to establish Federal energy conservation standards that generally correspond to the levels in American Society of Heating, Refrigerating and Air-Conditioning Engineer (ASHRAE)/Illuminating Engineering Society of North America (IESNA) Standard 90.1, “Energy Standard for Buildings Except Low-Rise Residential Buildings,” (ASHRAE Standard 90.1), effective October 24, 1992. These standards apply to most types of covered equipment listed in section 342(a) of EPCA, including PTACs and PTHPs. (42 U.S.C. 6313(a)) Further, section 342(a)(6)(A) of EPCA states that if ASHRAE modifies the required efficiency levels specified in Standard 90.1 for PTACs and PTHPs, DOE must amend the national standard for that equipment at the level specified in updated ASHRAE Standard 90.1, unless DOE determines that a more stringent standard would result in significant energy savings and would be technologically feasible and economically justified. (42 U.S.C. 6313(a)(6)(A)) On October 29, 1999, ASHRAE amended its efficiency levels for PTACs and PTHPs in ASHRAE Standard 90.1-1999; in response, DOE published a final rule (2008 final rule) amending the minimum energy conservation standard for PTACs and PTHPs at a more-stringent level than those specified in ASHRAE Standard 90.1-1999. 73 FR 58772 (Oct. 7, 2008).

Section 305 of the Energy Independence and Security Act of 2007 (EISA 2007), Public Law 110-140, amended section 342(a)(6)(C) of EPCA to mandate that not later than six years after the issuance of any final rule establishing or amending a standard for ASHRAE equipment, DOE must either publish a notice of determination that more-stringent standards for such equipment are not needed or a notice of proposed rulemaking proposing amended standards that are technologically feasible and economically justified. (42 U.S.C. 6313(6)(A)(i)) Therefore, DOE must publish either a determination or notice of proposed rulemaking by no later than October 7, 2014 (6 years after the publication of the 2008 final rule). This framework document is being published as a first step toward meeting these statutory requirements.

DOE has prepared this framework document to explain the relevant issues, analyses, and processes it anticipates using to determine whether to amend energy conservation standards, and, if so, to develop such amended standards. The focus of the public meeting noted above will be to discuss the information presented and issues identified in the framework document. At the public meeting, DOE will make presentations and invite discussion on the rulemaking process as it applies to PTACs and PTHPs. DOE will also solicit comments, data, and information from participants and other interested parties.

DOE is planning to conduct in-depth technical analyses in the following areas: (1) Engineering, (2) energy-use characterization, (3) equipment price, (4) life-cycle cost and payback period, (5) national impacts, (6) manufacturer impacts, (7) utility impacts, (8) employment impacts, (9) emission impacts, and (10) regulatory impacts. DOE will also conduct several other analyses that support those previously listed, including the market and technology assessment, the screening analysis (which contributes to the engineering analysis), and the shipments analysis (which contributes to the national impact analysis).

DOE encourages those who wish to participate in the public meeting to obtain the framework document and be prepared to discuss its contents. A copy of the framework document is available at: http://www1.eere.energy.gov/buildings/appliance_standards/product.aspx/productid/45.

Public meeting participants need not limit their comments to the issues identified in the framework document. DOE is also interested in comments on other relevant issues that participants believe would affect energy conservation standards for this equipment, applicable test procedures, or the preliminary determination on the scope of coverage. DOE invites all interested parties, whether or not they participate in the public meeting, to submit in writing by March 25, 2013, comments and information on matters addressed in the framework document and on other matters relevant to DOE's consideration of amended standards for PTACs and PTHPs.

The public meeting will be conducted in an informal, facilitated, conference style. There shall be no discussion of proprietary information, costs or prices, market shares, or other commercial matters regulated by U.S. antitrust laws. A court reporter will record the proceedings of the public meeting, after which a transcript will be available on the DOE Web site at: http://www1.eere.energy.gov/buildings/appliance_standards/product.aspx/productid/45.

After the public meeting and the close of the comment period on the framework document, DOE will collect data, conduct the analyses as discussed in the framework document and at the public meeting, and review the public comments it receives.

DOE considers public participation to be a very important part of the process to determine whether to establish amended energy conservation standards and, if so determined, to set those amended standards. DOE actively encourages participation and interaction of the public during the comment period in each stage of the rulemaking process. Beginning with the framework document, and during each subsequent public meeting and comment period, interactions with and among members of the public provide a balanced discussion of the issues that will assist DOE in the standards rulemaking process. Accordingly, anyone who wishes to participate in the public meeting, receive meeting materials, or be added to the DOE mailing list to receive future notices and information about this rulemaking should contact Ms. Brenda Edwards at (202) 586-2945, or via email at Brenda.Edwards@ee.doe.gov.

Issued in Washington, DC, on February 15, 2013.
Kathleen B. Hogan,
Deputy Assistant Secretary for Energy Efficiency, Energy Efficiency and Renewable Energy.

[FR Doc. 2013-04106 Filed 2-21-13; 8:45 am]

BILLING CODE 6450-01-P